OFFICE OF SPECIAL COUNSEL

5 CFR Parts 1800, 1820, 1830 and 1850

Change of Official Mailing Address

AGENCY: Office of Special Counsel.

ACTION: Final rule; Technical amendments.

SUMMARY: The Office of Special Counsel (OSC) is updating the suite number to be used when sending correspondence to the agency headquarters office in Washington, DC. OSC's mailing address will be: 1730 M Street, NW, Suite 201, Washington, DC 20036-4505. Technical amendments are needed to update the mailing address shown in certain sections of OSC regulations, conforming those sections to others involved in recent revisions.

DATES: This rule is effective on December 26, 2000.

FOR FURTHER INFORMATION CONTACT: Kathryn Stackhouse, Attorney, Planning and Advice Division, by telephone at (202) 653-8971, or by fax at (202) 653-5161.

SUPPLEMENTARY INFORMATION: This action is directed to the public in general, and to current and former Federal employees and applicants for Federal employment in particular, who may want to contact OSC by mail, including to: (a) Allege a prohibited personnel practice or other violation of civil service law, rule, or regulation by a Federal agency; (b) submit a whistleblower disclosure; or (c) request an advisory opinion on political activity under the Hatch Act.

OSC recently moved the agency mailroom to Suite 201 at its headquarters office. OSC also recently revised its regulations at 5 CFR part 1800 for other purposes. See 65 FR 64881 (Oct. 31, 2000). As part of that regulatory revision, OSC updated the official mailing address shown in certain sections of part 1800 (dealing with the filing of complaints and whistleblower disclosures) to change the suite number shown, from Suite 300 to Suite 201. OSC is now publishing technical amendments to other sections of agency regulations at 5 CFR Chapter VIII, updating the official mailing address shown in those sections. (Suite 300, formerly used in the mailing address, will continue to appear in OSC's official agency address, and to serve as the reception point for agency visitors.)

This action is taken under the Special Counsel's authority, at 5 U.S.C. 1212(e), to publish regulations in the Federal Register. Under the Administrative Procedure Act, at 5 U.S.C. 553(b)(3)(B), statutory procedures for agency rulemaking do not apply “when the agency for good cause finds (and incorporates the finding and a brief statement of reasons therefor in the rules issued) that notice and public procedure thereon are impracticable, unnecessary, or contrary to the public interest.” OSC finds that such notice and public procedure are impracticable, unnecessary, or contrary to the public interest, on the grounds that: (1) These amendments are technical and non-substantive; and (2) the public benefits from early correction of an incorrect address, and further delay is unnecessary and contrary to the public interest.

OSC will submit this final rule to Congress and the General Accounting Office pursuant to the Congressional Review Act. The rule is effective upon publication, as permitted by 5 U.S.C. 808. Pursuant to 5 U.S.C. 808(2), OSC finds that good cause exists for this effective date, based on the reasons cited in the preceding paragraph for the § 553(b)(3)(B) determination.

List of Subjects in 5 CFR Part 1800, 1820, 1830 and 1850

Administrative practice and procedure, Civil rights, Freedom of information, Government employees, Individuals with disabilities, Privacy, Reporting and recordkeeping requirements.

For the reasons set forth in the preamble, the Office of Special Counsel is amending title 5, chapter VIII as follows:

CHAPTER VIII—OFFICE OF SPECIAL COUNSEL

PART 1800—[AMENDED]

1. Authority citation for Part 1800 continues to read as follows:

Authority: 5 U.S.C. 1212(e).

PART 1820—[AMENDED]

2. The authority citation for Part 1820 continues to read as follows:

Authority: 5 U.S.C. 552(a)(3), 552(a)(4), 1212(g), 1219.

PART 1830—[AMENDED]

3. The authority citation for Part 1830 continues to read as follows:

Authority: 5 U.S.C. 552a(f), 1212(g).

PART 1850—[AMENDED]

4. The authority citation for Part 1850 continues to read as follows:

Authority: 29 U.S.C. 794.

§§ 1800.3, 1820.1, 1820.2, 1820.8, 1830.1, 1830.3, and 1850.17 [Amended]

5. In §§ 1800.3, 1820.1(b), 1820.2, 1820.8, 1830.1, 1830.3, and 1850.170(c), revise the reference “Suite 300” to read “Suite 201”.

Dated: December 19, 2000.
Elaine Kaplan,
Special Counsel.

[FR Doc. 00-32834 Filed 12-22-00; 8:45 am]

BILLING CODE 7405-01-P